DEPARTMENT OF JUSTICE

Antitrust Division

Notice Pursuant to the National Cooperative Research and Production Act of 1993—Cooperative Research Group on Mechanical Stratigraphy and Natural Deformation in Eagle Ford Formation and Equivalent Boquillas Formation, South-Central and West Texas (Eagle Ford II)

Notice is hereby given that, on July 1, 2015, pursuant to Section 6(a) of the National Cooperative Research and Production Act of 1993, 15 U.S.C. 4301 et seq. (“the Act”), Southwest Research Institute—Cooperative Research Group on Mechanical Stratigraphy and Natural Deformation in Eagle Ford Formation and Equivalent Boquillas Formation, South-Central and West Texas (“Eagle Ford II”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: BHP Billiton Petroleum (Americas) Inc., Houston, TX; Murphy Exploration and Production Company, Houston, TX; ConocoPhillips Company, Houston, TX; Marathon Oil Company, Houston, TX; and Pioneer Natural Resources USA, Inc., Irving, TX. The general area of Eagle Ford II's planned activity is to examine the influence that mechanical stratigraphy exerts on natural and induced fracture systems in the oil and gas window of the Eagle Ford productive trend. Eagle Ford II will (i) expand the outcrop characterization; (ii) relate outcrop based results to the subsurface geology and geomechanics of the productive Eagle Ford trend; and (iii) perform numerical geomechanical modeling to understand the natural and induced hydraulic fracturing to validate and improve the modeling approach and to simulate a range of stratigraphic and stress conditions within the Eagle Ford productive trend and associated deformation features.

Patricia A. Brink,
Director of Civil Enforcement, Antitrust Division.

[FR Doc. 2015-18576 Filed 7-28-15; 8:45 am]

BILLING CODE P